DEPARTMENT OF AGRICULTURE

Agricultural Marketing Service

[Docket Number FV-04-304]

United States Standards for Grades of Mangos

AGENCY: Agricultural Marketing Service, USDA.

ACTION: Notice.

SUMMARY: The Agricultural Marketing Service (AMS) of the Department of Agriculture (USDA) is establishing voluntary United States Standards for Grades of Mangos. The standards are intended to provide industry with a common language and uniform basis for trading, thus promoting orderly and efficient marketing of fresh mangos.

EFFECTIVE DATE: February 13, 2006.

FOR FURTHER INFORMATION CONTACT: Cheri Emery, Standardization Section, Fresh Products Branch, Fruit and Vegetable Programs, Agricultural Marketing Service, U.S. Department of Agriculture, 1400 Independence Ave., SW., Room 1661, South Building, Stop 0240, Washington, DC 20250-0240, fax (202) 720-8871, call (202) 720-2185, or e-mail Cheri.Emery@usda.gov. The United States Standards for Grades of Mangos is available at the above address or by accessing the AMS, Fresh Products Branch Web site at: http://www.ams.usda. gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by the USDA/AMS/Fruit and Vegetable Programs.

AMS is establishing United States Standards for Grades of Mangos using procedures that appear in Part 36, Title 7 of the Code of Federal Regulations (7 CFR part 36).

Background

On December 16, 2003, AMS published a notice in the Federal Register (68 FR 69984) soliciting comments for the possible development of United States Standards for Grades of Mangos. Based on the comments received and information gathered, AMS developed proposed grade standards for Mangos. A notice was then published in the March 11, 2005, Federal Register (70 FR 12173) requesting comments on the proposed United States Standards for Grades of Mangos. The proposed standards contained sections pertaining to grades, sizes, tolerances, application of tolerances, definitions, and a table of defects. The following grades as well as a tolerance for each grade would be established: U.S. Fancy, U.S. No. 1 and U.S. No. 2. In addition, “Application of Tolerances” section and “Size Requirements” section with a table listing size designations would also be established. The standards defined “Injury,” “Damage,” “Serious damage,” along with specific basic requirements and other defects. Also included was a “Classification of Defects” section, in a table format, which would list some of the various defects affecting mangos and scoring guides for the particular grade involved. In response to this notice a request was received from a national trade association representing produce receivers for an extension of the comment period. Following a review of the request, AMS published a notice in the July 1, 2005, Federal Register (38091) extending the comment period. AMS received eighteen comments from the mango industry on the proposed standards. The comments are available by accessing the AMS, Fresh Products Branch Web site at: http://www.ams.usda.gov/fv/fpbdocketlist.htm.

AMS received fourteen comments opposing the size proposed in the table because it did not include some of the currently marketed sizes. The commenters stated that the table was limiting because it did not take into account different varieties. Some felt the table was too inconsistent by suggesting a four ounce and a six ounce difference between the top and the bottom of the size. In addition, three of those commenters stated that the customer base and the existing packing house technology would prevent the industry from implementing the size requirement. The comments suggesting that the table be removed have merit. Accordingly, the size section of the standards is removed.

The proposed standard provided that “soft” would be scored as a defect. AMS received three comments that stated that the word “soft” was not a negative attribute and therefore should not be used as a term which may cause confusion in the mango industry. They went on further to state that consumers are taught that mangos are ripe when they yield to gentle pressure or are soft and that “overripe” was a negative attribute. In addition, two commenters referred to the defect as overripe in their table of classification of defects with their scoring guides in the comments which were submitted in the form of quality assurance standards. Therefore, based on the comments received, the references to “soft” are removed and replaced with the word “overripe.” The term overripe will now also be defined in the standard as follows: “Overripe” means that flesh of the mango yields to slight pressure and is beginning to disintegrate and is past commercial utility. Also, one commenter stated there was some confusion over the term “Soft nose.” Upon further review, we believe that use of the term would be confusing; therefore, this term has been eliminated from the requirements of the grades and from the classification of defects table.

Three commenters expressed the concern that the scoring guide for the classification of skin defects such as external (surface) discoloration and sunken discolored areas were too tight. One commenter believed that a majority of the fruit being shipped today would not even pass the U.S. No. 2 grade due to skin defects such as sap burn, abrasions, freckling, pitting, or other discolorations that do not affect the eating quality of the fruit. The commenter went on to state, “At the same time, we must not allow normal levels of minor skin defects to cause the fruit to fall completely out of grade and destroy any commercial value the fruit would otherwise have without the grade standard.” Another commenter stated, “In the Ataulfo variety, some resin spots on the skin vanish while reaching yellow color.” However, one commenter felt that the scoring guides were too loose. Based upon the comments received, AMS believes it is appropriate to increase the percentage of the surface affected before scoring of certain skin defects. Therefore, external (surface) discoloration was increased from ten and fifteen percent to aggregate areas of more than fifteen and twenty-five percent for damage and serious damage respectively in the classification of defects table. The skin defect shriveling was changed from scored when present in any amount, when affecting an aggregate are more than five percent of the surface, and when affecting an aggregate area more than ten percent of the surface to five, fifteen, and twenty-five percent respectively for injury, damage, and serious damage in the classification of defects table. AMS believes that the sunken discolored areas category does not need adjustment because it is a combination defect and combination defects affect the marketing of mangos more than surface discoloration or sunken areas alone.

Additionally, AMS believes the defect Anthracnose should also be removed from the classification of defects table. There may be difficulty in identifying this defect. This defect has various symptoms such as superficial black spots and streaks or fruit staining that then may become sunken and eventually lead to fruit rot. However, this defect will be scored according to the general definitions of injury, damage, and serious damage.

The adoption of these standards will provide the rapidly growing mango industry with grade standards similar to those extensively in use by the fresh produce industry to assist in orderly marketing of other commodities.

The official grade of a lot of mangos covered by these standards will be determined by the procedures set forth in the Regulations Governing Inspection, Certification, and Standards of Fresh Fruits, Vegetables and Other Products (Sec. 51.1 to 51.61).

The United States Standards for Grades of Mangos will become effective 30 days after publication in the Federal Register.

Authority: 7 U.S.C. 1621-1627.

Dated: January 6, 2006.
Lloyd C. Day,
Administrator, Agricultural Marketing Service.

[FR Doc. 06-281 Filed 1-11-06; 8:45 am]

BILLING CODE 3410-02-P